DEPARTMENT OF HEALTH AND HUMAN SERVICES

Centers for Disease Control and Prevention

[60 Day-05-05CX]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

A Survey of University Field Biology Training Programs to Assess Zoonosis Education, Animal Handling and Personal Protective Equipment Training—New—Centers for Disease Control and Prevention (CDC), National Center for Infectious Diseases (NCID).

Background and Brief Description

Field Biologists and members of allied disciplines (Ecology, Conservation Biology, Wildlife Biology, Mammalogy, etc.) frequently come in contact with wild animals, many of which may carry diseases transmissible to humans (zoonotic diseases). Examples of these diseases include Rabies, Hantavirus Pulmonary Syndrome, Leptospirosis, Tularemia and many others. The recent death of a Wildlife Sciences graduate student from occupationally-acquired Hantavirus Pulmonary Syndrome highlights the vulnerability of this population to zoonotic diseases. The graduate student's exposure was thought to be due to inadequate understanding of the risk of zoonotic disease and need for proper animal handling and personal protective equipment (PPE) use.

Throughout the field biology community, there are no universally accepted standards for zoonosis risk reduction education, safe animal handling or PPE use. While it may be difficult to re-train seasoned biologists who have established habits related to animal handling and PPE use, new members of the community (i.e. undergraduate and graduate students) may represent an opportunity for timely intervention. By developing proper animal handling and PPE use habits early in their careers, field biologists can minimize their exposure to potentially fatal zoonotic illnesses.

The proposed survey asks 85 Department Chairs (or Program Directors, as surrogates) of university training programs in field-related biological sciences about their programs' policies regarding zoonotic disease education, safe animal handling training, and PPE training and use. The survey consists of an introductory letter and a self-administered, Web-based questionnaire e-mailed to persons at universities in the United States. The study objectives are to describe current knowledge, attitudes and practices of educational institutions and their faculty regarding zoonotic disease risks and protection of undergraduate and graduate students, and to determine what types of national guidelines on zoonotic disease risk reduction in university training programs are needed. If these data were not collected, it would make it more difficult to create logical and appropriate national guidelines for zoonotic risk reduction in university training programs. This data collection supports the CDC's broader research agenda of understanding the determinants of illness in vulnerable populations. There is no cost to the respondents other than their time.

Estimate of Annualized Burden Table
Respondents | Number of respondents | Number of responses per respondent | Average burden per response | Total burden (in hours)
Surveys | 85 | 1 | 10/60 | 14.0
Total |  |  |  | 14.0

Dated: September 30, 2005.
Betsey Dunaway,
Acting Reports Clearance Officer, Centers for Disease Control and Prevention.

[FR Doc. 05-20062 Filed 10-5-05; 8:45 am]

BILLING CODE 4163-18-P